DEPARTMENT OF THE INTERIOR

Fish and Wildlife Service

[FWS-R9-NCTC-2008-N0157] [97310-1661-0030]

Information Collection Sent to the Office of Management and Budget (OMB) for Approval; OMB Control Number 1018-0115, Application for Training, National Conservation Training Center

AGENCY: Fish and Wildlife Service, Interior.

ACTION: Notice; request for comments.

SUMMARY: We (Fish and Wildlife Service) have sent an Information Collection Request (ICR) to OMB for review and approval. The ICR, which is summarized below, describes the nature of the collection and the estimated burden and cost. This IC is scheduled to expire on June 30, 2008. We may not conduct or sponsor and a person is not required to respond to a collection of information unless it displays a currently valid OMB control number. However, under OMB regulations, we may continue to conduct or sponsor this information collection while it is pending at OMB.

DATES: You must submit comments on or before July 28, 2008.

ADDRESSES: Send your comments and suggestions on this ICR to the Desk Officer for the Department of the Interior at OMB-OIRA at (202) 395-6566 (fax) or OIRA_DOCKET@OMB.eop.gov (e-mail). Please provide a copy of your comments to Hope Grey, Information Collection Clearance Officer, Fish and Wildlife Service, MS 222-ARLSQ, 4401 North Fairfax Drive, Arlington, VA 22203 (mail); (703) 358-2269 (fax); or hope_grey@fws.gov (e-mail).

FOR FURTHER INFORMATION CONTACT: To request additional information about this ICR, contact Hope Grey by mail, fax, or e-mail (see ADDRESSES) or by telephone at (703) 358-2482.

SUPPLEMENTARY INFORMATION:

OMB Control Number: 1018-0115.

Title: Application for Training, National Conservation Training Center.

Service Form Number(s): 3-2193.

Type of Request: Extension of a currently approved collection.

Affected Public: Persons who wish to participate in training given at or sponsored by the National Conservation Training Center (NCTC).

Respondent's Obligation: Voluntary.

Frequency of Collection: On occasion when applying for training at NCTC.

Estimated Annual Number of Respondents: 500.

Estimated Total Annual Responses: 500.

Estimated Time Per Response: 10 minutes.

Estimated Total Annual Burden Hours: 83.

Abstract: The Fish and Wildlife Service National Conservation Training Center in Shepherdstown, West Virginia, provides natural resource and other professional training for Service employees, employees of other Federal agencies, and other affiliations, including State agencies, private individuals, not-for-profit organizations, and university personnel. FWS Form 3-2193 (Training Application) is a quick and easy method for prospective non-Department of the Interior students to request training. We encourage applicants to use FWS Form 3-2193 and to submit their requests electronically. However, we do not require applicants to complete both a training form required by their agency and FWS Form 3-2193. NCTC will accept any single training request as long as each submission identifies the name, address, and phone number of the applicant, sponsoring agency, class name, start date, and all required financial payment information.

NCTC uses data from the form to generate class rosters, class transcripts, and statistics, and as a budgeting tool for projecting training requirements. It is also used to track attendance, mandatory requirements, tuition, and invoicing for all NCTC-sponsored courses both on- and off-site.

Comments: On April 25, 2008, we published in the Federal Register (73 FR 22430) a notice of our intent to request that OMB renew approval for this information collection. In that notice, we solicited comments for 60 days, ending on June 24, 2008. We received one comment. The comment was directed to the subject matter, validity, and necessity of the training and not at the need for the information collection. The commenter stated that training does not help the general public and that NCTC is a private hunting club. The commenter believes that the training we provide is focused on gun, hunting, and violence proponents.

All training courses that NCTC offers, with the exception of some bureau specific courses, are open to members of the general public who have the required background experience or knowledge to allow their full understanding of the subject matter. Very few of our training courses have an emphasis on guns and hunting. Those courses that do touch on this subject are presented in the context of refuge and wildlife management and law enforcement. We have not made any changes to the collection in response to this comment.

We again invite comments concerning this information collection on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Hope Grey,
Information Collection Clearance Officer, Fish and Wildlife Service.

FR Doc. E8-14582 Filed 6-26-08; 8:45 am

BILLING CODE 4310-55-S